ENVIRONMENTAL PROTECTION AGENCY

[FRL-9930-36-Region 8]

Proposed Settlement Agreement for Iron Springs Mining District Site, Uncompahgre National Forest, San Miguel County, Colorado

AGENCY: Environmental Protection Agency (EPA).

ACTION: Notice; Request for public comment.

SUMMARY: In accordance with the Comprehensive Environmental Response Compensation, and Liability Act of 1980, as amended (CERCLA), notice is hereby given of the proposed Administrative Settlement between the U.S. Environmental Protection Agency (EPA) and Department of Agriculture Forest Service (USFS) (collectively the “Agencies”), and Union Oil Company of California, Inc. (hereinafter referred to as “the Settling Party”). The Settling Party will pay within 30 days after the effective date of this Proposed Agreement ($403,300) to the EPA, ($14,573) to the U.S. Department of Agriculture, and ($357,677) to the USFS for past response costs. The covenants provided by the Agencies to the Settling Party are conditioned upon the satisfactory performance by Settling Party of its obligations under this Settlement Agreement. The payments made by Settling Party in accordance with this Settlement Agreement do not constitute an admission of any liability by Settling Party.

DATES: Comments must be submitted on or before August 10, 2015.

ADDRESSES: The proposed agreement is available by appointment for public inspection at the EPA Superfund Record Center, 1595 Wynkoop Street, Denver, Colorado 80202-1129, during normal business hours. Appointments for review may be made by calling the EPA Superfund Records Center at (303) 312-7273. Comments and requests for a copy of the proposed agreement should be addressed to Michael Rudy, Enforcement Specialist, Environmental Protection Agency—Region 8, Mail Code 8ENF-RC, 1595 Wynkoop Street, Denver, Colorado 80202-1129, and should reference the Iron Springs Mining District Site, the EPA Docket No. CERCLA-08-2015-0005.

FOR FURTHER INFORMATION CONTACT: Michael Rudy, Enforcement Specialist, Environmental Protection Agency, Region 8, Mail Code 8ENF-ENF, at the above address, (303) 312-6332.

Dated: June 16, 2015.
Kelcey Land,
Director, Technical Enforcement Program, Office of Enforcement, Compliance, and Environmental Justice, U.S. Environmental Protection Agency, Region 8.

[FR Doc. 2015-16810 Filed 7-8-15; 8:45 am]

BILLING CODE 6560-50-P